DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before March 20, 2012. Address written comments to Statutory Import Programs Staff, Room 3720, U.S. Department of Commerce, Washington, DC 20230. Applications may be examined between 8:30 a.m. and 5 p.m. at the U.S. Department of Commerce in Room 3720.

Docket Number: 11-074. Applicant: Howard Hughes Medical Institute, 4000 Jones Bridge Rd., Chevy Chase, MD 20815. Instrument: Electron Microscope. Manufacturer: FEI Company, Czech Republic. Intended Use: The instrument will be used to understand how proteins interact with DNA, with a focus on proteins that are involved in DNA damage recognition and repair. The experiments will consist of direct visual observations of fluorescently tagged DNA and DNA-bound protein molecules using total internal reflection fluorescence microscopy. The instrument will provide the capability to generate “DNA Curtains.” Justification for Duty-Free Entry: There are no instruments of the same general category manufactured in the United States. Application accepted by Commissioner of Customs: December 21, 2011.

Docket Number: 12-002. Applicant: National Center for Toxicological Research, 3900 NCTR Rd., Jefferson, AR 72079. Instrument: Electron Microscope. Manufacturer: JEOL Instruments, Japan. Intended Use: The instrument will be used to determine the toxicity of nanoscale metal oxides culutured cells, quantifying the distribution and toxicity of nanoscale silver and metal oxides, and determining the genotoxicity of nanoscale materials in cultured cells. Justification for Duty-Free Entry: There are no instruments of the same general category manufactured in the United States. Application accepted by Commissioner of Customs: January 10, 2012.

Docket Number: 12-005. Applicant: VA Palo Alto Health Care System, Azhar Lab, Bldg 4, Room C320, 3801 Miranda Ave., Palo Alto, CA 94304-1207. Instrument: Electron Microscope. Manufacturer: FEI Company, Czech Republic. Intended Use: The instrument will be used to study cell cultures and lab animal tissue specimens for verification of normal morphological features or morphological changes, as well as searching for proteins of interest labeled with commercially available colloidal gold conjugated to antibodies. Cellular organelles can be clearly seen and identified using this instrument, which would not be visible with a light microscope. Justification for Duty-Free Entry: There are no instruments of the same general category manufactured in the United States. Application accepted by Commissioner of Customs: February 8, 2012.

Docket Number: 12-006. Applicant: William Patterson University, 300 Pompon Rd., Wayne, NJ 07470. Instrument: Electron Microscope. Manufacturer: Hitachi High Technologies America Inc, Japan. Intended Use: The instrument will be used to study specimens including animal tissues, bacteria, insects and parasites, involving the examination of their morphological and structural features. Justification for Duty-Free Entry: There are no instruments of the same general category manufactured in the United States. Application accepted by Commissioner of Customs: February 13, 2012.

Dated: February 22, 2012.
Gregory Campbell,
Director, IA Subsidies Enforcement Office.

[FR Doc. 2012-4838 Filed 2-28-12; 8:45 am]

BILLING CODE 3510-DS-P